DEPARTMENT OF ENERGY

Federal Energy Regulatory Commission

[Project No. 15400-000]

Issaquena Green Power; Notice of Preliminary Permit Application Accepted for Filing and Soliciting Comments, Motions To Intervene, and Competing Applications

On April 2, 2025, Issaquena Green Power, filed an application for a preliminary permit, pursuant to section 4(f) of the Federal Power Act (FPA), proposing to study the feasibility of the Yellow Bend Hydrokinetic Energy Project to be located on the Mississippi River in Desha and Chicot Counties, Arkansas, and Bolivar County, Mississippi. The sole purpose of a preliminary permit, if issued, is to grant the permit holder priority to file a license application during the permit term. A preliminary permit does not authorize the permit holder to perform any land-disturbing activities or otherwise enter upon lands or waters owned by others without the owners' express permission.

The proposed Yellow Bend Hydrokinetic Energy Project would consist of: (1) up to 504 hydrokinetic turbine generator units, arranged into 84 arrays, typically six units per array with two units wide and three units long, with an installed capacity of 50.4 megawatts; (2) a mooring system to anchor each turbine-generator to the riverbed; (3) four shore stations, spaced 2 to 4 kilometers apart along the riverbank and each serving approximately 21 arrays; and (4) four primary 34.6 kilovolt, three-phase transmission lines, with a combined length of approximately 15 miles, connecting the shore stations to the existing substation. The project would have a total installed capacity of 50.4 megawatts and an average annual generation of 397,310 megawatt-hours.

Applicant Contact: Cooley May, Issaquena Green Power, 11767 Katy Freeway, Suite 320, Houston, TX 77079; email: cooley.may@issaquenagreenpower.com; phone: (212) 729-3669.

FERC Contact: Prabharanjani Madduri; at (202) 502-8017, or by email at prabharanjani.madduri@ferc.gov.

Deadline for filing comments, motions to intervene, competing applications (without notices of intent), or notices of intent to file competing applications: on or before 5:00 p.m. Eastern Time on October 20, 2025. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-15400-000.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595, or OPP@ferc.gov.

More information about this project, including a copy of the application, can be viewed or printed on the “eLibrary” link of the Commission's website at http://www.ferc.gov/docs-filing/elibrary.asp. Enter the docket number (P-15400) in the docket number field to access the document. For assistance, contact FERC Online Support.

Dated: August 20, 2025.
Carlos D. Clay,
Deputy Secretary.

[FR Doc. 2025-16239 Filed 8-22-25; 8:45 am]

BILLING CODE 6717-01-P